ENVIRONMENTAL PROTECTION AGENCY

[ER-FRL-9029-7]

Environmental Impact Statements; Notice of Availability

Responsible Agency: Office of Federal Activities, General Information (202) 564-7146 or http://www.epa.gov/nepa.

Weekly receipt of Environmental Impact Statements (EISs)

Filed 10/10/2016 Through 10/14/2016

Pursuant to 40 CFR 1506.9.

Notice

Section 309(a) of the Clean Air Act requires that EPA make public its comments on EISs issued by other Federal agencies. EPA's comment letters on EISs are available at: http://www.epa.gov/compliance/nepa/eisdata.html.

EIS No. 20160237, Final, USFS, FL, Beasley Pond Analysis Area, Review Period Ends: 12/05/2016, Contact: Branden Tolver 850-926-3561.

EIS No. 20160238, Final, NPS, NY, Fire Island National Seashore General Management Plan, Review Period Ends: 11/21/2016, Contact: Kaetlyn Jackson 631-687-4770.

EIS No. 20160239, Draft, USFS, OR, Ten Cent Community Wildfire Protection Project, Comment Period Ends: 12/05/2016, Contact: Andrew Stinchfield 541-427-5397.

EIS No. 20160240, Draft, BR, CA, Long-Term Plan to Protect Adult Salmon in the Lower Klamath River, Comment Period Ends: 12/05/2016, Contact: Julia Long 530-276-2044.

EIS No. 20160241, Final, BLM, WA, Vantage to Pomona Heights 230kV Transmission Line Project, Review Period Ends: 11/21/2016, Contact: Robin Estes 541-416-6728.

EIS No. 20160242, Draft, NMFS, NAT, Amendment 5b to the 2006 Consolidated Atlantic Highly Migratory Species Fishery Management Plan, Comment Period Ends: 12/22/2016, Contact: Margo Schulze-Haugen 301-427-8503.

EIS No. 20160243, Draft, USFWS, CA, Otay River Estuary Restoration Project San Diego Bay National Wildlife Refuge, Comment Period Ends: 12/05/2016, Contact: Brian Collins 619-575-2704, extension 302.

EIS No. 20160244, Final, NOAA, AK, Effects of Oil and Gas Activities in the Arctic Ocean, Review Period Ends: 11/21/2016, Contact: Jolie Harrison 301-427-8401.

EIS No. 20160245, Final, BR, MT, Lower Yellowstone Intake Diversion Dam Fish Passage Project, Montana, Review Period Ends: 11/21/2016, Contact: Tiffany Vanosdall 402-995-2695.

Amended Notices

EIS No. 20160197, Draft, NOAA, HI, Heeia National Estuarine Research Reserve, Comment Period Ends: 10/30/2016, Contact: Jean Tanimoto 808-725-5253. Revision to the FR Notice Published 09/02/2016; Extending Comment Period from 10/17/2016 to 10/30/2016.

Dated: October 18, 2016.
Dawn Roberts,
Management Analyst, NEPA Compliance Division, Office of Federal Activities.

[FR Doc. 2016-25533 Filed 10-20-16; 8:45 am]

BILLING CODE 6560-50-P